DEPARTMENT OF ENERGY

Notice of Availability of the Final Long-Term Management and Storage of Elemental Mercury Environmental Impact Statement

AGENCY: Department of Energy.

ACTION: Notice of availability.

SUMMARY: The Department of Energy (DOE) announces the availability of the Final Long-Term Management and Storage of Elemental Mercury Environmental Impact Statement (DOE/EIS-0423, “Mercury Storage FEIS” or “FEIS”). This FEIS, prepared in accordance with the implementing regulations under the National Environmental Policy Act (NEPA), evaluates the potential health and environmental effects of storing a projected total of up to 10,000 metric tons (11,000 tons) of elemental mercury at each of seven alternative sites across the U.S. The FEIS also addresses comments received during the public comment period on the Draft EIS. The U.S. Environmental Protection Agency (EPA), the Texas Commission on Environmental Quality (TCEQ), and the Mesa County, Colorado, Board of Commissioners are cooperating agencies on this FEIS.

DATES: DOE will issue a Record of Decision pursuant to the Mercury Storage FEIS no sooner than 30 days after publication of EPA's notice of its availability in the Federal Register.

ADDRESSES: Questions and requests for printed or CD copies of the Summary or full FEIS may be directed to: Mr. David Levenstein, EIS Document Manager, Office of Environmental Compliance, EM-41, U.S. Department of Energy, Germantown, Maryland 20874.

The FEIS is available on the Department's NEPA Web site at http://www.nepa.energy.gov. Printed copies are also available at the public reading rooms identified under SUPPLEMENTARY INFORMATION.

FOR FURTHER INFORMATION CONTACT: Further information related to the EIS can be obtained by contacting Mr. Levenstein at the address listed above. Further information about DOE's NEPA process is available on the NEPA Web site at http://www.nepa.energy.gov or by contacting: Ms. Carol M. Borgstrom, Director, Office of NEPA Policy and Compliance (GC-54), U. S. Department of Energy, 1000 Independence Avenue, SW., Washington, DC 20585. Telephone: (202) 586-4600, or leave a message at (800) 472-2756.

SUPPLEMENTARY INFORMATION: The Mercury Export Ban Act of 2008 (the Act) prohibits the export of elemental mercury from the U.S., effective January 1, 2013 (subject to certain essential use exemptions). Section 5 of the Act, Long-Term Storage, directs DOE to designate a facility or facilities for the long-term management and storage of elemental mercury generated within the U.S. and, by January 1, 2013, to have the facility or facilities operational and ready to accept custody of such elemental mercury delivered there.

DOE thus needs to develop a capability for the safe and secure long-term management and storage of elemental mercury generated within the U.S. as required by the Act. To this end, DOE proposes to select one or more existing or new facilities for this purpose. Existing facilities may need to be modified. All facilities, whether newly constructed or existing, must comply with applicable requirements of Section 5(d) of the Act, Management Standards for a Facility, including the requirements of the Solid Waste Disposal Act, as amended by the Resource Conservation and Recovery Act (RCRA). DOE is following the NEPA process to identify candidate sites for the facility(ies). EPA, TCEQ, and the Mesa County, Colorado, Board of Commissioners are cooperating agencies on the EIS, which has been prepared pursuant to Council on Environmental Quality NEPA implementing regulations at 40 CFR Parts 1500-1508 and DOE NEPA Implementing Procedures at 10 CFR Part 1021.

Based on a structured process described in the Draft EIS issued in January 2010, as well as the FEIS, DOE identified seven government and commercial sites as the range of reasonable alternatives to be evaluated in the EIS: DOE Grand Junction Disposal Site, Grand Junction, Colorado; DOE Hanford Site, Richland, Washington; Hawthorne Army Depot, Hawthorne, Nevada; DOE Idaho National Laboratory, Idaho Falls, Idaho; DOE Kansas City Plant, Kansas City, Missouri; DOE Savannah River Site, Aiken, South Carolina; and Waste Control Specialists, LLC, Andrews, Texas. As required under NEPA, the Draft EIS and FEIS also analyzed a No Action Alternative.

DOE's evaluation includes the facilities and their locations, along with any construction, facility operations, and transportation to the storage facility(ies). Consideration of potential locations includes climate, proximity of human populations, and environmental resource areas for each alternative, along with the potential human health and socioeconomic impacts. DOE has identified the Waste Control Specialists, LLC, site as its preferred alternative.

DOE held a public comment period on the Draft EIS that extended from January 29 through March 30, 2010, and held nine public hearings during this period near the sites analyzed in the Draft EIS. DOE considered all public comments received, including late comments. The FEIS contains DOE's responses.

Public Reading Rooms

Printed copies of the Mercury Storage EIS and supporting technical reports are available for public review at the locations listed below.

Colorado

Mesa County Library, 530 Grand Avenue, Grand Junction, CO 81502-5019, (970) 243-4442.

U.S. Department of Energy, Office of Legacy Management, 2597 B ¾ Road, Grand Junction, CO 81503, (970) 248-6089.

District of Columbia

U.S. Department of Energy, Freedom of Information Act Public Reading Room, 1000 Independence Avenue, SW., Room 1G-033, Washington, DC 20585, (202) 586-5955.

Georgia

Augusta State University, Reese Library, 2500 Walton Way, Augusta, GA 30904, (706) 737-1745.

Savannah State University, Asa H. Gordon Library, 2200 Tompkins Road, Savannah, GA 31404, (912) 356-2183.

Idaho

U.S. Department of Energy, Public Reading Room, 1776 Science Center Drive, Idaho Falls, ID 83402, (208) 526-0833.

Missouri

Mid-Continent Public Library, Blue Ridge Branch, 9253 Blue Ridge Boulevard, Kansas City, MO 64138, (816) 761-3382.

Nevada

Mineral County Library, First & “A” Street, Hawthorne, NV 89415, (775) 945-2778.

New Mexico

Eunice Public Library, 1039 10th Street, Eunice, NM 88231, (575) 394-2336.

Oregon

Portland State University, Government Information, Branford Price Millar Library, 1875 SW. Park Avenue, Portland, OR 97201, (503) 725-5874.

South Carolina

University of South Carolina-Aiken, Gregg-Graniteville Library, 471 University Parkway, Aiken, SC 29801, (803) 641-3320.

South Carolina State Library, 1500 Senate Street, Columbia, SC 29211, (803) 734-8026.

Texas

Andrews County Library, 109 NW. 1st Street, Andrews, TX 79714, (432) 523-9819.

Washington

U.S. Department of Energy, Public Reading Room, Consolidated Information Center, 2770 University Drive, Room 101L, Richland, WA 99352, (509) 372-7443.

University of Washington, Suzzallo-Allen Library, Government Publications Division, Seattle, WA 98195, (206) 543-1937.

Gonzaga University, Foley Center Library, 101-L East 502 Boone, Spokane, WA 99258, (509) 313-5931.

Issued in Washington, DC on January 24, 2011.
Inés R. Triay,
Assistant Secretary for Environmental Management.

[FR Doc. 2011-1892 Filed 1-27-11; 8:45 am]

BILLING CODE 6450-01-P